DEPARTMENT OF COMMERCE

Foreign-Trade Zones Board

[B-02-2019]

Foreign-Trade Zone (FTZ) 106—Oklahoma City, Oklahoma; Notification of Proposed Production Activity; Xerox Corporation (Polyester Latex for Printer/Copier Toner); Oklahoma City, Oklahoma

The Port Authority of Greater Oklahoma City, grantee of FTZ 106, submitted a notification of proposed production activity to the FTZ Board on behalf of Xerox Corporation (Xerox), located in Oklahoma City, Oklahoma. The notification conforming to the requirements of the regulations of the FTZ Board (15 CFR 400.22) was received on December 17, 2018.

Xerox already has authority to produce bulk toner and toner cartridges within Subzone 106D. Xerox has changed its production process and is no longer producing bulk toner and toner cartridges at its Oklahoma City facility. The facility is currently used for the production of polyester latex for printer/copier toner. The current request would add a finished product and foreign status materials/components to the scope of authority. Pursuant to 15 CFR 400.14(b), additional FTZ activity would be limited to the specific foreign-status materials and components and specific finished product described in the submitted notification (as described below) and subsequently authorized by the FTZ Board.

Production under FTZ procedures could exempt Xerox from customs duty payments on the foreign-status components used in export production. On its domestic sales, for the foreign-status materials/components noted below, Xerox would be able to choose the duty rate during customs entry procedures that apply to polyester latex (duty rate 5.1%). Xerox would be able to avoid duty on foreign-status components which become scrap/waste. Customs duties also could possibly be deferred or reduced on foreign-status production equipment.

The components and materials sourced from abroad include dodecanedioic acid, nonanediol, and dodecylbenzenesulfonic acid sodium salt (duty rates range from 4% to 6.5%). The request indicates that certain materials/components are subject to special duties under Section 301 of the Trade Act of 1974 (Section 301), depending on the country of origin. The applicable Section 301 decisions require subject merchandise to be admitted to FTZs in privileged foreign status (19 CFR 146.41).

Public comment is invited from interested parties. Submissions shall be addressed to the Board's Executive Secretary at the address below. The closing period for their receipt is March 18, 2019.

A copy of the notification will be available for public inspection at the Office of the Executive Secretary, Foreign-Trade Zones Board, Room 21013, U.S. Department of Commerce, 1401 Constitution Avenue NW, Washington, DC 20230-0002, and in the “Reading Room” section of the Board's website, which is accessible via www.trade.gov/ftz.

For further information, contact Diane Finver at Diane.Finver@trade.gov or (202) 482-1367.

Dated: January 31, 2019.
Andrew McGilvray,
Executive Secretary.

[FR Doc. 2019-01278 Filed 2-5-19; 8:45 am]

BILLING CODE 3510-DS-P